DEPARTMENT OF TRANSPORTATION

Federal Aviation Administration

RTCA Future Flight Data Collection Committee

AGENCY: Federal Aviation Administration (FAA), DOT.

ACTION: Notice of RTCA Future Flight Data Collection Committee meeting.

SUMMARY: The FAA is issuing this notice to advise the public of a meeting of the RTCA Flight Data Collection Committee.

DATES: The meeting will be held May 31, 2001 starting at 1 p.m.

ADDRESSES: The meeting will be held at RTCA, Inc., 1140 Connecticut Avenue, NW., Suite 1020, Washington, DC 20036.

FOR FURTHER INFORMATION CONTACT: RTCA Secretariat, 1140 Connecticut Avenue, NW., Washington, DC 20036; telephone (202) 833-9339; fax (202) 833-9434; web site http://www.rtca.org.

SUPPLEMENTARY INFORMATION: Pursuant to section 10(a)(2) of the Federal Advisory Committee Act (Pub. L. 92-463, 5 U.S.C., Appendix 2), notice is hereby given for a Future Flight Data Collection Committee meeting. The agenda will include:

May 31

• Opening Session (Welcome, Introductory, and Administrative Remarks, Agenda Review, Review/Approve Summary of Previous Meeting.)

• Receive Reports on the deliberations of Working Groups 1, 2 and 3

• Discuss Timeline for Deliverables from the Working Groups

• Review progress on the Final Report

• Receive Presentations

• Closing Session (Other Business, Establish Agenda for Next Meeting, Date and Place of Next Meeting, Adjourn)

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC on May 15, 2001.
Janice L. Peters,
FAA Special Assistant, RTCA Advisory Committee.

[FR Doc. 01-12723 Filed 5-18-01; 8:45 am]

BILLING CODE 4910-13-M